DEPARTMENT OF HEALTH AND HUMAN SERVICES

Office of the Secretary

[Document Identifier: HHS-OS-0990-0281-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for a revision to the use of the approved information collection assigned OMB control number 0990-0281, which expires on November 30, 2015. Prior to submitting the ICR to OMB, OS seeks comments from the public regarding the burden estimate, below, or any other aspect of the ICR.

DATES: Comments on the ICR must be received on or before September 8, 2015.

ADDRESSES: Submit your comments to Information.CollectionClearance@hhs.gov or by calling 202-690-6162.

FOR FURTHER INFORMATION CONTACT: Information Collection Clearance staff, Information.CollectionClearance@hhs.gov or 202-690-6162.

SUPPLEMENTARY INFORMATION: When submitting comments or requesting information, please include the document identifier HHS-OS-0990-0281-60D or reference.

Information Collection Request Title: Prevention Communication Formative Research—Revision—OMB No. 0990-0281—Office of Disease Prevention and Health Promotion.

Abstract: The Office of Disease Prevention and Health Promotion's (ODPHP) focus includes developing and disseminating prevention information to the public. ODPHP faces increasingly urgent interest in finding effective ways to communicate health information to America's diverse population. As a federal government agency, ODPHP strives to be responsive to the needs of America's diverse audiences while simultaneously serving all Americans across a range of channels, from print through new communication technologies. To carry out its prevention information efforts, ODPHP is committed to conducting formative and usability research to provide guidance on the development and implementation of its disease prevention and health promotion communication and education efforts.

The information collected will be used by ODPHP to improve its communication, products, and services that support key office activities including: Healthy People, Dietary Guidelines for Americans, Physical Activity Guidelines for Americans, healthfinder.gov, and increasing health care quality and patient safety. ODPHP communicates through its Web sites (www.healthfinder.gov, www.HealthyPeople.gov, www.health.gov) and through other channels including social media, print materials, interactive training modules, and reports.

The primary methods of data collection will be qualitative and may include in-depth interviews, focus groups, web-based surveys, card sorting, and various forms of usability testing of materials and interactive tools to assess the public's understanding of disease prevention and health promotion content, responses to prototype materials, and barriers to effective use.

The research methods outlined in this supporting statement have five major purposes:

1. To obtain useful target audience information for the formation of messages and materials

2. To further explore messages and materials in contexts that would be most beneficial for target audiences

3. To identify and verify audience segmentation strategies for providing disease prevention and health promotion information

4. To inform the development and refinement of user-friendly Web sites and other interactive tools

5. To identify user challenges and obstacles to accessing health information to guide Web site, material, and interactive tool development and refinement

The program is requesting a 3-year clearance.

Likely Respondents: Respondents are likely to be either consumers or health professionals.

Total Estimated Annualized Burden Hours
Data collection task | Instrument/form name | Number of respondents | Number of responses/ respondent | Average burden/ response (in hours) | Total response burden (in hours)
In-depth interviews | Screener | 135 | 1 | 10/60 | 22.5
| Interview | 45 | 1 | 1 | 45
Focus groups | Screener | 240 | 1 | 10/60 | 40
| Focus Group | 80 | 1 | 1.5 | 120
Web-based surveys | Screener | 6000 | 1 | 5/60 | 500
| Survey | 2000 | 1 | 15/60 | 500
Card sorting | Screener | 180 | 1 | 10/60 | 180
| Card Sort | 60 | 1 | 1 | 60
Usability and prototype testing of materials (print and Web) | Screener | 360 | 1 | 10/60 | 60
| Usability Test | 120 | 1 | 1 | 120
Total |  |  |  |  | 1,647.50

Darius Taylor,
Information Collection Clearance Officer.

[FR Doc. 2015-16870 Filed 7-9-15; 8:45 am]

BILLING CODE 4150-32-P